DEPARTMENT OF HEALTH AND HUMAN SERVICES

National Institutes of Health

Office of the Secretary; Notice of Meeting

Notice is hereby given of a change in the meeting of the Task Force on Research Specific to Pregnant Women and Lactating Women; which was published in the Federal Register on April 29, 2019, 84 FR 18059.

Notice: This meeting will be held via teleconference only and is open to the public.

Dated: May 2, 2019.
Ronald J. Livingston, Jr.,
Program Analyst, Office of Federal Advisory Committee Policy.

[FR Doc. 2019-09353 Filed 5-6-19; 8:45 am]

BILLING CODE 4140-01-P